DEPARTMENT OF THE INTERIOR

Bureau of Land Management

[WY-090-1220-AA]

Notice of Seasonal Closure of Public Lands to Motorized Vehicle Use

AGENCY: Bureau of Land Management, Interior.

ACTION: Notice of seasonal closure of certain public lands located in Lincoln County, Wyoming, to all types of motor vehicle use.

SUMMARY: The Record of Decision (ROD) and approved Kemmerer Resource Management Plan (RMP) ROD, dated April 29, 1986, states that big game winter ranges may be closed to minimize stress to wintering animals.

After consulting with the Wyoming Game and Fish Department, all Bureau of Land Management (BLM)-administered public land surface, including existing roads and two-tracks, are closed in the Raymond Mountain Wilderness Study Area (WSA), Slate Creek, Rock Creek, and Bridger Creek winter ranges to all types of motorized vehicle travel (e.g., snowmobiles, all-terrain vehicles, pickups, motorcycles, sport utility vehicles, etc.) from January 1, 2003, until April 30, 2003. Use of these areas by nonmotorized means is still allowed. This action is necessary for the protection of crucial winter range habitat for elk, moose, antelope, and mule deer. No motorized vehicle travel into these areas will be allowed unless specifically authorized (in writing) by the authorized officer (BLM Kemmerer Field Manager), except for highways or county roads. Personnel of the Wyoming Game and Fish Department, Department of Agriculture, APHIS, Wildlife Services, Lincoln and Uinta County Sheriff's Offices, and the BLM are exempt from this closure when performing official duties. Operators of existing oil and gas facilities may perform maintenance and pumping, as approved, and livestock operators may perform permitted activities. After April 30, motorized vehicle access is limited to existing roads and two-tracks, as described in the Kemmerer RMP ROD dated April 29, 1986.

SUPPLEMENTARY INFORMATION: The BLM Kemmerer Field Office is responsible for management of crucial winter range habitat located on public lands within Lincoln County. These crucial wildlife winter range habitat areas and the management thereof, are addressed in the Kemmerer RMP. The RMP states that seasonal closures for motorized vehicles may be used to protect big game winter range. Closures will vary depending on conditions and are implemented in coordination with the Wyoming Game and Fish Department (Kemmerer RMP, page 25 and 27). The Raymond Mountain WSA, Slate Creek, Rock Creek, and Bridger Creek areas are crucial wintering ranges for elk, moose, antelope, and mule deer. This seasonal closure is necessary to protect wintering deer, moose, and elk, which are suffering from the effects of a 3-year drought. Low forage production associated with the drought has caused animals to go into winter in very poor condition. Additionally, forage production on winter ranges is also reduced. These impacts to wintering wildlife are currently compounded by significant human activity, such as day and night wildlife observation, photo/videography, snowmobiling, and antler gathering. The use of motorized vehicles during difficult winter periods can increase the number of animals that will die on the winter range and can decrease production of young during the following summer. Therefore, a seasonal closure is necessary to relieve impacts from the use of motorized vehicles on wintering big game animals.

The following BLM-administered lands are included in this closure: The Raymond Mountain WSA is located approximately 15 miles north of Cokeville and contains 32,956 acres. The Slate Creek area includes all BLM-administered lands south of Fontenelle Creek, west and north of Route 189, and east of the crest of Slate Creek Ridge, and contains 111,100 acres. The Rock Creek area includes all BLM-administered lands south of County Road 204 (Pine Creek Road), west of the crest of Dempsey Ridge, west of Fossil Butte National Monument, north and east of Highway 30, and contains 105,750 acres. The Bridger Creek area includes all BLM-administered lands south of Highway 30, west of Fossil Ridge, west of Bear River Divide, north of the Uinta—Lincoln County line, east of the Utah—Wyoming border, and southeast of Highway 89, and contains 98,400 acres.

Maps of these seasonal closure areas will be posted with this notice at key locations that provide access into the closure areas, as well as at the Kemmerer Field Office, 312 Highway 189 North, Kemmerer, Wyoming 83101-9710.

Authority for closure orders is provided in regulation 43 CFR, subparts 8341.2 and 8364.1. Violations of this closure are punishable by a fine not to exceed $1000.00, and/or imprisonment not to exceed 12 months.

DATES: This seasonal closure will be effective from January 1, 2003, until April 30, 2003.

FOR FURTHER INFORMATION CONTACT: Wally Mierzejewski, Outdoor Recreation Planner, or Jim Wright, Wildlife Biologist, Bureau of Land Management, 312 Highway 189 North, Kemmerer, Wyoming 83101, or contact by telephone at 307-828-4500.

Dated: October 10, 2002.
Alan L. Kesterke,
Acting State Director.

[FR Doc. 03-592 Filed 1-10-03; 8:45 am]

BILLING CODE 4310-22-P